CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments on a revised “Application for the President's Higher Education Community Service Honor Roll” which will involve the collection of information from institutions of higher education concerning community service activities and will provide the basis for the second year of this national honor roll and awards program. This second year of the Honor Roll program application will include special emphasis on student, faculty, and staff tutoring and mentoring activities designed to improve the high school graduation and college access rates of underachieving youth in disadvantaged circumstances. Copies of the information collection request can be obtained by contacting the office listed in the ADDRESSES section of this notice.

DATES: Written comments must be submitted to the individual and office listed in the ADDRESSES section by February 5, 2007.

ADDRESSES: You may submit comments, identified by the title of the information collection activity, by any of the following methods:

(1) By mail sent to: Corporation for National and Community Service, Learn and Serve America; Attention: Amy Cohen, Director, Room 9603; 1201 New York Avenue, NW., Washington, DC 20525. Please note that because we are experiencing significant delays in receiving U.S. Mail, you may wish to consider alternative mail services.

(2) By hand delivery or by courier to: the Corporation's mailroom at Room 8100 at the mail address given in paragraph (1) above, between 9 a.m. and 4 p.m. Monday through Friday, except Federal holidays.

(3) By fax to: (202) 606-3477, Attention: Amy Cohen.

(4) Electronically through the Corporation's e-mail address system: acohen@cns.gov.

FOR FURTHER INFORMATION CONTACT: Amy Cohen, (202) 606-6927, or by e-mail at acohen@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are expected to respond, including the use of appropriate automated, electronic, mechanical, or other technological collection techniques or other forms of information technology (e.g., permitting electronic submissions of responses).

Background: Recognizing that community service and civic engagement are among the historic missions of most colleges and universities, the Corporation's Board of Directors has identified Strategic Plan targets that include significant increases in: the use of service-learning in higher education, the number of college students performing community service, and, in particular, the number of college students providing tutoring and other services designed to promote the high school completion and college access of youth in disadvantaged circumstances. The Honor Roll program supports these Strategic Plan goals as well as those of the First Lady's Helping America's Youth initiative.

The first year of the Honor Roll program was extremely successful, with 511 colleges submitting applications. Further information about the program and first-year Honor Roll members and award winners may be found at http://www.nationalservice.gov/honorroll.

Current Action: As with the first year of the program, information collected in the Honor Roll application will include: data on the scope and impacts of service projects; estimates of the number of enrolled students participating in community service activities; and information on institutional supports for service such as academic service-learning opportunities, community service coordination offices, and scholarships and other benefits in recognition of student service.

A special emphasis section of the 2007 Honor Roll application will solicit descriptions of exemplary service projects focusing on Youth Education Support. Last year's special focus section on Hurricane Relief has been deleted. Correspondingly, the Presidential Awards for Hurricane Relief that were made as part of the 2006 Honor Roll program will be replaced by Presidential Awards for Youth Education Support. Meanwhile, application guidance will emphasize that information concerning new or ongoing hurricane relief efforts may be included among the five exemplary project descriptions an institution may submit in support of a potential Presidential Award for General Community Service. The Corporation will consult with the higher education community and others concerning potential special emphasis topics for future years.

The selection of institutions for receipt of Presidential Awards under the President's Higher Education Community Service Honor Roll program will be based on information provided in the application. The deadline for institutions to submit applications is July 15, 2007. It is expected that a similar application/ information collection activity will be repeated annually, with a similar annual deadline.

Type of Review: Renewal.

Agency: Corporation for National and Community Service.

Title: Application for the President's Higher Education Community Service Honor Roll.

OMB Number: 3045-0120.

Agency Number: None.

Affected Public: Degree-granting colleges and universities located in the U.S. and its territories.

Total Respondents: 4,236 higher education institutions.

Frequency: Annual.

Average Time per Response: 1 hour.

Estimated Total Burden Hours: 4,236 hours.

Total Burden Cost (capital/startup): None.

Total Burden Cost (operating/maintenance): None.

Comments submitted in response to this notice will be summarized and/or included in the request for Office of Management and Budget approval of the information collection request; they will also become a matter of public record.

Dated: November 30, 2006.
Elson Nash,
Associate Director, Learn and Serve America, Corporation for National and Community Service. .

[FR Doc. E6-20670 Filed 12-5-06; 8:45 am]

BILLING CODE 6050-$$-P